DEPARTMENT OF THE INTERIOR

Bureau of Land Management

[DOI-BLM-AK-0000-2021-0006-EIS]

Notice of Availability of the Draft Coastal Plain Oil and Gas Leasing Program Supplemental Environmental Impact Statement

AGENCY: Bureau of Land Management, Interior.

ACTION: Notice of availability.

SUMMARY: In compliance with the National Environmental Policy Act of 1969, as amended (NEPA), the Bureau of Land Management (BLM) announces the availability of the Draft Coastal Plain Oil and Gas Leasing Program Supplemental Environmental Impact Statement (Leasing SEIS).

DATES: To afford the joint lead agencies the opportunity to consider comments in the Final Leasing SEIS, please ensure that the BLM receives your comments within 45 days following the date the Environmental Protection Agency (EPA) publishes its Notice of Availability (NOA) of the Draft Leasing SEIS in the Federal Register. The EPA publishes these NOAs on Fridays. The BLM will be holding virtual and in-person public meetings. The dates of the comment period as well as information about public meetings and subsistence hearings will be available on the project website in the ADDRESSES section.

ADDRESSES: The Draft Leasing SEIS is available for review on the BLM ePlanning project website at https://eplanning.blm.gov/eplanning-ui/project/2015144/510.

Written comments related to the Draft Leasing SEIS may be submitted via the ePlanning project website at https://eplanning.blm.gov/eplanning-ui/project/2015144/510.

Documents pertinent to this proposal may be examined at the BLM Alaska State Office, BLM Alaska Arctic District Office, and the United States Fish and Wildlife Service (USFWS) Arctic National Wildlife Refuge Office.

• BLM Alaska State Office Public Room, 222 W 7th Avenue, Anchorage, AK 99513

• BLM Alaska Arctic District Office, 222 University Avenue, Fairbanks, AK 99709

• USFWS Arctic National Wildlife Refuge Office, 101 12th Avenue, Room 235, Fairbanks, AK 99701

FOR FURTHER INFORMATION CONTACT: Serena Sweet, BLM Supervisory Planner, telephone (907) 271-4345, or email ssweet@blm.gov; Stephanie Kuhns, BLM Planning and Environmental Specialist, telephone (907) 271-4208, email skuhns@blm.gov; or Bobbie Jo Skibo, Coastal Plain Oil and Gas Program Coordinator, telephone (907) 441-1539, email bobbiejo_skibo@fws.gov. Individuals in the United States who are deaf, deafblind, hard of hearing, or have a speech disability may dial 711 (TTY, TDD, or TeleBraille) to access telecommunications relay services for contacting Ms. Sweet, Ms. Kuhns, or Ms. Skibo. Individuals outside the United States should use the relay services offered within their country to make international calls to the point-of-contact in the United States.

SUPPLEMENTARY INFORMATION: The Draft Leasing SEIS was developed by the BLM and USFWS as joint lead agencies to address deficiencies in the 2019 Coastal Plain Oil and Gas Leasing Program Environmental Impact Statement and the 2020 Record of Decision approving the Arctic National Wildlife Refuge Coastal Plain Oil and Gas Leasing Program (85 FR 51754).

The joint lead agencies prepared this Draft Leasing SEIS in accordance with NEPA to implement an oil and gas leasing program in the Coastal Plain of the Arctic National Wildlife Refuge (Coastal Plain). This Draft Leasing SEIS serves to inform BLM's implementation of the Public Law 115-97, Section 20001(c)(1) requirement to hold two lease sales. It may also inform management of post-lease activities, including seismic surveys, exploratory drilling, oil and gas development, and transportation of oil and gas in and from the Coastal Plain. Specifically, the Draft Leasing SEIS considers and analyzes the environmental impacts of various leasing alternatives and the indirect impacts that could result from hypothetical development.

This Draft Leasing SEIS does not permit oil and gas extraction activities. It considers three action alternatives for implementation of an oil and gas leasing program in the Coastal Plain. The decisions to be made include which lands to offer for lease and what terms and conditions would apply to leases. The decisions evaluated would not authorize any on-the-ground activity associated with the exploration or development of oil and gas resources on the Coastal Plain. Future on-the-ground actions requiring BLM approval, including proposed exploration plans and development proposals, would require further NEPA analysis based on the site-specific proposal.

Although sections 20001(a)(2) and (b)(2)(A) of Public Law 115-97 assign responsibility to the BLM for administering the oil and gas program on the Coastal Plain, it is understood that all activities, including plan development, study development, and consideration of exceptions, modifications, waivers, or any operations conducted on the surface of the Coastal Plain, would include close coordination with the USFWS as the surface management agency. In addition, the BLM would coordinate with other appropriate Federal, State, and North Slope Borough agencies; Tribal Governments; ANCSA corporations; and other Native organizations as appropriate.

All comments received during the comment period will be considered and evaluated, and substantive comments will be addressed in the Final Leasing SEIS to be completed in 2024. The most useful comments are ones that are specific and address one or more of the following:

• Identification of new information that would have a bearing on the analysis.

• Inaccuracies or discrepancies in information or any errors in our portrayal of the resources and uses of the program area.

• Suggestions for improving implementation of an oil and gas leasing program on the Coastal Plain, consistent with the purposes of the Arctic National Wildlife Refuge.

• Identification of new impacts, alternatives, or potential mitigation measures.

When you share your comments with us, please be as specific as possible. Identify the specific concern or correction you are suggesting, where it appears in the Draft Leasing SEIS, and the modification you feel is necessary or appropriate. If you have an idea for a potential mitigation measure, please tell us what it is and the benefits it would provide.

Information about public meetings and subsistence hearings will be available on the project website listed in the ADDRESSES section, and will be announced through additional, public notices, news releases, and mailings.

The BLM and USFWS will continue to consult with Indian Tribal Nations and Alaska Native corporations in accordance with Executive Order 13175, BLM MS 1780, and other Departmental policies. Tribal concerns, including impacts on Indian trust assets, impacts to subsistence resources, and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Steven M. Cohn,
BLM Alaska State Director.

[FR Doc. 2023-19427 Filed 9-7-23; 8:45 am]

BILLING CODE 4331-10-P